FEDERAL COMMUNICATIONS COMMISSION

[DA 01-188]

Process to Update the International Bureau's Records for Carriers That Provide International Telecommunications Services, Correction

AGENCY: Federal Communications Commission.

ACTION: Notice; correction.

SUMMARY: This document contains corrections to the Notice which was published in the Federal Register on Monday, February 5, 2001 (66 FR 8972). The date announcing the commencement of the 90-day period was incorrect. This document corrects that error.

DATES: The 90-day filing period commences on February 5, 2001.

ADDRESSES: Federal Communications Commission, Secretary, 445 12th Street, SW., Room TW-B204F, Washington, DC 20554.

FOR FURTHER INFORMATION CONTACT: Rebecca Arbogast, International Bureau, (202) 418-1460.

SUPPLEMENTARY INFORMATION: The FCC published a document in the Federal Register on February 5, 2001 (66 FR 8972). In that document (page 8972, column 2) and (page 8973 column 2), the dates for the commencement of the 90-day period are incorrect. The correct date is February 5, 2001.

Federal Communications Commission.
Magalie Roman Salas,
Secretary.

[FR Doc. 01-3519 Filed 2-9-01; 8:45 am]

BILLING CODE 6712-01-P